NUCLEAR REGULATORY COMMISSION

[NRC-2021-0217]

Monitoring Criteria and Methods To Calculate Occupational Radiation Doses

AGENCY: Nuclear Regulatory Commission.

ACTION: Draft regulatory guide; request for comment.

SUMMARY: The U.S. Nuclear Regulatory Commission (NRC) is issuing for public comment draft regulatory guide (DG), DG-8060, “Monitoring Criteria and Methods to Calculate Occupational Radiation Doses.” This DG is proposed Revision 1 to Regulatory Guide (RG) 8.34 of the same name. This proposed revised guidance describes an approach that is acceptable to the staff of the NRC to meet the NRC regulations for monitoring and determining the dose to occupationally exposed individuals.

DATES: Submit comments by January 31, 2022. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking website: Go to https://www.regulations.gov and search for Docket ID NRC-2021-0217. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Steven Garry, Office of Nuclear Reactor Regulation, telephone: 301-415-2766, email: Steven.Garry@nrc.gov, and Harriet Karagiannis, Office of Nuclear Regulatory Research, telephone: 301-415-2493, email: Harriet.Karagiannis@nrc.gov. Both are staff of the U.S. Nuclear Regulatory Commission, Washington, DC 20555-0001.

SUPPLEMENTARY INFORMATION:

I. Obtaining Information and Submitting Comments

A. Obtaining Information

Please refer to Docket ID NRC-2021-0217 when contacting the NRC about the availability of information regarding this action. You may obtain publicly available information related to this action, by any of the following methods:

• Federal Rulemaking website: Go to https://www.regulations.gov and search for Docket ID NRC-2021-0217.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays

B. Submitting Comments

The NRC encourages electronic comment submission through the Federal Rulemaking website (https://www.regulations.gov). Please include Docket ID NRC-2021-0217 in your comment submission.

The NRC cautions you not to include identifying or contact information that you do not want to be publicly disclosed in your comment submission. The NRC posts all comment submissions at https://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

This DG, titled “Monitoring Criteria and Methods to Calculate Occupational Radiation Doses,” is temporarily identified by its task number, DG-8060.

The DG is a proposed Revision 1 to RG 8.34 (ADAMS Accession No. ML21068A160). The proposed revision of RG 8.34 (Revision 1) describes acceptable methods for calculating the total effective dose equivalent. Revision 1 also provides acceptable methods for:

• Performing prospective dose evaluations,

• monitoring of unintended doses,

• monitoring dose from hot particles,

• assessing dose from wound injuries,

• calculating soluble uranium intakes, and

• processing of dosimetry devices.

On October 25, 2013 (78 FR 64030), the NRC staff issued DG-8031, “Monitoring Criteria and Methods to Calculate Occupational Radiation Doses,” (ADAMS Accession No. ML13168A095), for public comment. DG-8031 was the proposed Revision 1 to RG 8.34. The NRC staff has elected not to finalize DG-8031 and is issuing DG-8060 as a replacement. The staff notes that DG-8060 considers and addresses technical issues and public comments related to the issuance of DG-8031.

The staff is also issuing for public comment a draft regulatory analysis (ADAMS Accession No. ML21068A161). The staff develops a regulatory analysis to assess the value of issuing or revising a regulatory guide as well as alternative courses of action.

III. Backfitting, Forward Fitting, and Issue Finality

DG-8060, if finalized, would not constitute backfitting as defined in sections 50.109, 70.76, 72.62, or 76.76 of title 10 of the Code of Federal Regulations (10 CFR), all titled “Backfitting,” and as described in NRC Management Directive (MD) 8.4, “Management of Backfitting, Forward Fitting, Issue Finality, and Information Requests” (ADAMS Accession No. ML18093B087); would not affect the issue finality of any approval issued under 10 CFR part 52, “Licenses, Certificates, and Approvals for Nuclear Power Plants”; and would not constitute forward fitting as that term is defined and described in MD 8.4. As explained in DG-8060, applicants and licensees are not required to comply with the positions set forth in DG-8060.

Dated: December 13, 2021.
For the Nuclear Regulatory Commission.
Meraj Rahimi,
Chief, Regulatory Guide and Programs, Management Branch, Division of Engineering, Office of Nuclear Regulatory Research.

[FR Doc. 2021-27302 Filed 12-16-21; 8:45 am]

BILLING CODE 7590-01-P